ENVIRONMENTAL PROTECTION AGENCY

[OPP-00646A; FRL-6769-1]

Pesticides; Final Guidance for Pesticide Registrants on Pesticide Resistance Management Labeling

AGENCY: Environmental Protection Agency (EPA).

ACTION: Notice of availability.

SUMMARY: The Agency is announcing the availability of a final Pesticide Registration Notice PR-Notice titled “Guidance for Pesticide Registrants on Pesticide Resistance Management Labeling.” This PR-Notice was issued by the Agency on June 19, 2001, and is identified as PR-Notice 2001-OPP-00646A. PR-Notices are issued by the Office of Pesticide Programs (OPP) to inform pesticide registrants and other interested persons about important policies, procedures and registration related decisions, and serve to provide guidance to pesticide registrants and OPP personnel. This particular PR-Notice provides guidance to registrants concerning voluntary pesticide resistance management labeling based on mode/target site of action for pesticide products that are intended for general agricultural use. If adopted on a voluntary basis by registrants, this effort will help reduce the development of pesticide resistance based on mode/target site of action and lead to better environmental protection. This approach is the result of a joint effort of the U.S. and Canada under the North American Free Trade Agreement (NAFTA). The guidance provides an opportunity for consistency in resistance management labeling being considered for approval in any or all of the countries involved in NAFTA. This PR-Notice includes guidance to registrants concerning schemes of classification of pesticides according to their mode/target site of action (Appendices I-III), a recommended standard presentation and format for showing group identification symbols on end-use product labels, and examples of resistance management labeling statements.

FOR FURTHER INFORMATION CONTACT: Sharlene R. Matten (7511C), Environmental Protection Agency, 1200 Pennsylvania Ave., NW., Washington, DC 20460; telephone number: (703) 605-0514; fax number: (703) 308-7026; e-mail address: matten.sharlene@epa.gov.

SUPPLEMENTARY INFORMATION:

I. General Information

A. Does this Action Apply to Me?

This action is directed to the public in general. Although this action may be of particular interest to those persons who are required to register pesticides. Since other entities may also be interested, the Agency has not attempted to describe all the specific entities that may be affected by this action. If you have any questions regarding the information in this notice,consult the person listed under FOR FURTHER INFORMATION CONTACT.

B. How Can I Get Additional Information, Including Copies of this Document and Other Related Documents?

1. Electronically. You may obtain electronic copies of this document and the PR Notice from the Office of Pesticide Programs Home Page at http://www.epa.gov/pesticides/. You can also go directly to the listings from the EPA Internet Home Page at http://www.epa.gov/. To access this document, on the Home Page select “Laws and Regulations,” “Regulations and Proposed Rules,” and then look up the entry for this document under the “Federal Register —Environmental Documents.” You can also go directly to the Federal Register listings at http://www.epa.gov/fedrgstr/ or go directly to the Home Page for the Office of Pesticide Programs at http://www.epa.gov/pesticides, and select “PR Notices”.

2. Fax-on-demand. You may request a faxed copy of the Pesticide Registration (PR) Notice titled “Pesticide Resistance Management Labeling,” by using a faxphone to call (202) 401-0527 and selecting item (6138). You may also follow the automated menu.

3. In person. The Agency has established an official record for this action under docket control number OPP-00646A. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

II. Background

A. What Guidance Does this PR Notice Provide?

The United States Environmental Protection Agency (EPA) and Pest Management Regulatory Agency of Canada (PMRA) are committed to long-term pest resistance management through pesticide resistance management and alternative pest management strategies. Under the auspices of the North American Free Trade Agreement (NAFTA), the U.S. and Canada have joined together to develop and publish guidelines for purely voluntary pesticide resistance management labeling for implementation in North America. The development of these guidelines is part of the activities of the Risk Reduction Subcommittee of the NAFTA Technical Working Group on Pesticides. A more nearly uniform approach across North America can help reduce the development of pesticide resistance and support joint registration decisions by providing consistency in resistance management labeling being considered for approval in any or all of the NAFTA countries. To implement this NAFTA initiative, the Office of Pesticide Programs (OPP) of EPA has developed a Pesticide Registration (PR) Notice describing the voluntary pesticide resistance management labeling guidelines based on mode/target site of action for agricultural uses of herbicides, fungicides, bactericides, insecticides, and acaricides. Mode/target site of action refers to the biochemical mechanism by which the pesticide acts on the pest and should not be interpreted to imply that these chemicals share a common mechanism for purposes of cumulative human health risk assessment under the Federal Food Drug and Cosmetic Act (see EPA's document “Guidance for identifying pesticide chemicals and other substances that have a common mechanism of toxicity” located at http://www.epa.gov/fedrgstr/EPA-PEST/1999/February/Day-05/6055.pdf).

The final PR Notice describes schemes of classification of pesticides according to their mode/target site of action (Appendices I-III) provides a recommended standard presentation and format for showing group identification symbols on end-use product labels, and provides examples of resistance management labeling. EPA believes that this approach to resistance management is sound and would be highly beneficial to pesticide manufacturers and pesticide users. EPA is hopeful that registrants will embrace this approach and work with EPA to implement it for all relevant products. EPA believes this approach is an important element of international harmonization.

B. PR Notices are Guidance Documents

The PR Notice discussed in this notice is intended to provide guidance to EPA personnel and decision-makers and to pesticide registrants. This notice is not binding on either EPA or pesticide registrants, and EPA may depart from the guidance where circumstances warrant and without prior notice. Likewise, pesticide registrants may always assert that the guidance is not appropriate generally or not applicable to a specific pesticide or situation. For the matters covered by this particular PR Notice, EPA also does not expect to require that any registrant adopt the labeling set forth here as part of any individual licensing decision or action. However, if any registrant seeks to use the language set forth here in the manner and circumstances described here, EPA does generally expect to find such language acceptable in any licensing proceeding.

List of Subjects

Environmental protection, Administrative practice and procedure, Agricultural commodities, Pesticides and pests.

Dated: June 19, 2001.
Marcia E. Mulkey,
Director, Office of Pesticide Programs

[FR Doc. 01-18199 Filed 7-19-01; 8:45 am]

BILLING CODE 6560-50-S